DEPARTMENT OF COMMERCE

Foreign-Trade Zones Board

(Docket 4-2007)

MPM Silicones, LLC - Application for Subzone Status

Reopening of Comment Period

On September 11, 2007, MPM Silicones, LLC (Momentive) submitted to the FTZ Board a supplement to its application which contains new substantive factual information on which there has not been an opportunity for public comment. As a result, the comment period for the case referenced above is being reopened to October 22, 2007, to allow interested parties time in which to comment. Rebuttal comments may be submitted during the subsequent 15-day period, until November 5, 2007. Submissions (original and 3 copies) shall be addressed to the Board's Executive Secretary at: Foreign-Trade Zones Board, U.S. Department of Commerce, Room 2111, 1401 Constitution Ave. NW, Washington, DC 20230.

For further information, contact Elizabeth Whiteman at Elizabeth_Whiteman@ita.doc.gov or (202) 482-0473.

Dated: September 12, 2007.
Andrew McGilvray,
Executive Secretary.

[FR Doc. E7-18713 Filed 9-20-07; 8:45 am]

BILLING CODE 3510-DS-S